CONSUMER PRODUCT SAFETY COMMISSION

[Docket No. CPSC-2011-0081]

CPSC Workshop on Potential Ways To Reduce Third Party Testing Costs Through Determinations Consistent With Assuring Compliance; Reopening of the Comment Period

AGENCY: U.S. Consumer Product Safety Commission.

ACTION: Notice; comment request.

SUMMARY: The Consumer Product Safety Commission (Commission or CPSC) published a notice in the Federal Register on February 27, 2014 (79 FR 11088), announcing an April 3, 2014 public workshop regarding potential ways to reduce third party testing costs through determinations consistent with assuring compliance. In the Federal Register notice the Commission invited the public to submit any written comments by April 17, 2014. In response to the notice in the Federal Register the Juvenile Products Manufacturer's Association (JPMA) submitted a comment requesting a 90-day extension of the comment period to allow JPMA time to collect additional data from material manufacturers and test laboratories. The Toy Industry Association (TIA) also submitted a comment requesting the Commission keep the docket open to continue to collect data. To allow interested parties to submit additional comments or information, the Commission is reopening the comment period until July 16, 2014.

DATES: Submit comments by July 16, 2014.

ADDRESSES: You may submit comments, identified by Docket No. CPSC-2011-0081, by any of the following methods:

Electronic Submissions

Submit electronic comments in the following way:

Federal eRulemaking Portal: http://www.regulations.gov. Follow the instructions for submitting comments. The Commission does not accept comments submitted by electronic mail (email), except through: http://www.regulations.gov. The Commission encourages you to submit electronic comments by using the Federal eRulemaking Portal, as described above.

Written Submissions

Submit written submissions in the following way:

Mail/Hand delivery/Courier, preferably in five copies, to: Office of the Secretary, Consumer Product Safety Commission, Room 820, 4330 East West Highway, Bethesda, MD 20814; telephone (301) 504-7923.

Instructions: All submissions received must include the agency name and docket number for this notice. All comments received may be posted without change, including any personal identifiers, contact information, or other personal information provided, to: http://www.regulations.gov. Do not submit confidential business information, trade secret information, or other sensitive or protected information electronically. Such information should be submitted in writing.

Docket: For access to the docket to read background documents or comments received, go to: http://www.regulations.gov, and insert the Docket No. CPSC-2011-0081, into the “Search” box, and follow the prompts.

SUPPLEMENTARY INFORMATION: Section 14(a)(2) of the Consumer Product Safety Act generally requires that children's products that are subject to a CPSC children's product safety rule must be tested by a third party CPSC-accepted laboratory for compliance with applicable CPSC rules. 15 U.S.C. 2063(a)(2).¹ Public Law 112-28 (August 12, 2011) (Pub. L. 112-28) directed the CPSC to seek and review comments on “opportunities to reduce the cost of third party testing requirements consistent with assuring compliance with any applicable consumer product safety rule, ban, standard, or regulation.” The Commission fulfilled that sole related requirement in 2012.

¹ See also 16 CFR part 1107.

On the Commission's own initiative in furtherance of continuing to seek meaningful ways to reduce the cost of third party testing while assuring compliance, the Commission published a notice in the Federal Register on February 27, 2014 (79 FR 11088), announcing an April 3, 2014 public workshop regarding potential ways to reduce third party testing costs through determinations consistent with assuring compliance. In the Federal Register notice, the Commission invited the public to submit any written comments by April 17, 2014. The Commission received 13 written comments in response to the notice. JPMA submitted a comment requesting a 90 day extension of the comment period to allow JPMA time to collect additional data from material manufacturers and test laboratories. TIA also submitted a comment requesting that the Commission keep the docket open to collect data.

Through this notice, the Commission is reopening the comment period until July 16, 2014, to allow all interested parties to submit additional comments and information. This extension ends 90 days after the close of the original comment period.

Dated: May 14, 2014.
Todd A. Stevenson,
Secretary, U.S. Consumer Product Safety Commission.

[FR Doc. 2014-11445 Filed 5-16-14; 8:45 am]

BILLING CODE 6355-01-P